DEPARTMENT OF ENERGY

Federal Energy Regulatory Commission

[Docket No. CP10-472-000]

Kinder Morgan Interstate Gas Transmission LLC; Notice of Request Under Blanket Authorization

July 26, 2010.

Take notice that on July 20, 2010, Kinder Morgan Interstate Gas Transmission LLC (KMIGT), PO Box 281304, Lakewood, Colorado 80228-8304, filed a prior notice request pursuant to sections 157.205, 157.208, and 157.210 of the Commission's regulations under the Natural Gas Act (NGA) for authorization to replace, construct and operate certain mainline pipeline and ancillary facilities primarily to serve a new ethanol plant in Adams County, Nebraska, all as more fully set forth in the application, which is on file with the Commission and open to public inspection. The filing may also be viewed on the Web at http://www.ferc.gov using the “eLibrary” link. Enter the docket number excluding the last three digits in the docket number field to access the document. For assistance, contact FERC at FERCOnlineSupport@ferc.gov or call toll-free, (866) 208-3676 or TTY, (202) 502-8659.

KMIGT states that as a result of wrinkle bends, which have caused the pipeline to become physically deteriorated, approximately 11.4 miles of its 16-inch Franklin to Hastings Pipeline needs to be replaced. KMIGT asserts that, in response to the developing market for natural gas and to develop firm transportation to serve ethanol production facilities in the Midwest, KMIGT held an open season from July 2, 2010 through July 9, 2010 seeking support to expand its firm transportation capacity. As a result of the open season, KMIGT states that it has entered into a binding precedent agreement with Aventine Renewable Energy—Aurora West, LLC to provide up to 10,000 dekatherms per day of natural gas to serve its new ethanol plant located near Aurora, Nebraska. Accordingly, KMIGT proposes to replace 11.4 miles of the Franklin to Hastings Pipeline with 20-inch pipe to serve the increase in firm load. In addition, KMIGT proposes to construct and operate certain ancillary facilities. KMIGT estimates cost of constructing the proposed facilities is $23,511,100.

Any questions regarding the application should be directed to Robert F. Harrington, Vice President, Regulatory, Kinder Morgan Interstate Gas Transmission LLC, 370 Van Gordon Street, Lakewood, Colorado 80228-8304, by telephone (303) 763-3258, or by facsimile at (303) 984-3272, or by e-mail at Robert_Harrington@kindermorgan.com.

Any person may, within 60 days after the issuance of the instant notice by the Commission, file pursuant to Rule 214 of the Commission's Procedural Rules (18 CFR 385.214) a motion to intervene or notice of intervention. Any person filing to intervene or the Commission's staff may, pursuant to section 157.205 of the Commission's regulations under the NGA (18 CFR 157.205) file a protest to the request. If no protest is filed within the time allowed therefore, the proposed activity shall be deemed to be authorized effective the day after the time allowed for protest. If a protest is filed and not withdrawn within 30 days after the time allowed for filing a protest, the instant request shall be treated as an application for authorization pursuant to section 7 of the NGA.

The Commission strongly encourages electronic filings of comments, protests, and interventions via the internet in lieu of paper. See 18 CFR 385.2001(a)(1)(iii) and the instructions on the Commission's Web site (http://www.ferc.gov) under the “e-Filing” link.

Kimberly D. Bose,
Secretary.

[FR Doc. 2010-18845 Filed 7-30-10; 8:45 am]

BILLING CODE 6717-01-P